DEPARTMENT OF THE INTERIOR

Bureau of Land Management

[LLWYD01000 L13140000.NB0000 17X]

Notice of Availability of the Draft Environmental Impact Statement for the Normally Pressured Lance Natural Gas Development Project

AGENCY: Bureau of Land Management, Interior.

ACTION: Notice of availability.

SUMMARY: In accordance with the National Environmental Policy Act of 1969, as amended, and the Federal Land Policy and Management Act of 1976, as amended, the Bureau of Land Management (BLM) has prepared a Draft Environmental Impact Statement (Draft EIS) for the proposed Normally Pressured Lance (NPL) natural gas development project within the BLM Pinedale and Rock Springs Field Offices and by this notice is announcing the opening of the comment period.

DATES: To ensure that comments will be considered, the BLM must receive written comments on the NPL Draft EIS within 45 days following the date the Environmental Protection Agency publishes the notice of availability of the NPL Draft EIS in the Federal Register. The BLM will announce future meetings or any other public participation activities at least 15 days in advance through public notices, media releases, and/or mailings.

ADDRESSES: You may submit comments related to the NPL Draft EIS by any of the following methods:

• Email: blm_wy_npl_eis@blm.gov

• Mail: NPL EIS Project Manager, BLM Pinedale Field Office, P.O. Box 768, Pinedale, WY 82941

Copies of the NPL Draft EIS are available at the Pinedale Field Office at the following locations:

BLM Pinedale Field Office, 1625 West Pine Street, Pinedale, WY 82941

or

BLM Rock Springs Field Office, 280 Highway 191 North, Rock Springs, WY 82901

or on the project Web site at: http://tinyurl.com/hloulms.

FOR FURTHER INFORMATION CONTACT: Susan (Liz) Dailey—NPL EIS Project Manager, BLM Pinedale Field Office, P.O. Box 768, Pinedale, WY 82941, 307-367-5310, sdailey@blm.gov. Persons who use telecommunications device for the deaf (TDD) may call the Federal Relay Service (FRS) at 1-800-877-8339 to contact the above individual during normal business hours. The FRS is available 24 hours a day, 7 days a week to leave a message or question with the above individual. You will receive a reply during normal business hours.

SUPPLEMENTARY INFORMATION: The NPL project is located immediately south and west of the existing Jonah Gas Field in Sublette County, Wyoming. The project area lies within the BLM Wyoming High Desert District and spans the Pinedale Field Office (PFO) in the north and the Rock Springs Field Office (RSFO) to the south. The project encompasses approximately 141,000 acres of public, state, and private lands. Approximately 96% of the project area is on public lands. Within the NPL project area, there are both unitized and non-unitized development areas.

There are approximately 48,036 acres of Greater sage-grouse Priority Habitat Management Area (PHMA) within the NPL project area (405 acres within the PFO and 47,631 acres within the RSFO). There are approximately 92,825 acres of General Habitat Management Area in the NPL project area (78,228 within the PFO and 14,597 within the RSFO). There are 27,292 acres (26,392 on BLM-administered lands) of Greater sage-grouse Winter Concentration Area (WCA) within the NPL. These are divided into two distinct WCAs: Alkali Creek, consisting of 20,132 acres (19,232 on BLM-administered lands), and Alkali Draw, consisting of 7,160 acres (all on BLM-administered lands). These WCAs are found in the western and northern portions of the project area, respectively. There are approximately 1,259 acres of Sagebrush Focal Areas (SFAs) within the NPL project area. All of the SFAs are within the RSFO.

Jonah Energy LLC, the current operator after purchasing Encana Oil and Gas Inc.'s leasehold interest in the project, is proposing up to 3,500 directionally drilled wells (depth range from 6,500 to 13,500 feet) over a 10-year period (Proposed Action). Under Jonah Energy's proposal, most wells would be co-located on a single pad, with no more than four well pads per 640 acres in areas outside of PHMA. There would be only one disturbance per 640 acres inside PHMA. On average, each well pad would be 18 acres in size. Regional gathering facilities would be used instead of placing compressors at each well pad. Associated access roads, pipelines, and other ancillary facilities would be co-located where possible to further minimize surface disturbance.

In addition to the Proposed Action, the BLM analyzed three other alternatives: The No Action Alternative, using existing standard stipulations and examining the project area under the historical rate of development of around three wells per year; Alternative A, using a phased approach moving through existing leased oil and gas units and responding to identified wildlife issues; and Alternative B, which addressed a broadrange of resource concerns in response to issues identified during scoping.

Alternatives A and B each analyzed the same rate of development as the Proposed Action as well as the use of regional gathering facilities. However, in addition to varying resource protection measures, each alternative analyzed differing densities of development—from one to four multi-well pads per 640 acres, depending on the resource considerations of the project area. Additionally, Alternative A analyzed the merits of developing the project area in phases. Phased development across the project area analyzed development in three geographically defined phases, occurring sequentially, and taking into consideration existing oil and gas units.

Interim and final reclamation activities would be implemented under all alternatives so as to return the landscape to proper biological and ecological function in conformance with the NPL Reclamation Plan and the relevant Resource Management Plans.

Formal public scoping for the NPL project began on April 12, 2011, with the publication of the Notice of Intent in the Federal Register (76 FR 20370). Public scoping comments were used to identify issues that informed the formulation of alternatives and framed the scope of analysis for the NPL Draft EIS.

All alternatives conform to the PFO Resource Management Plan Record of Decision (2008) and the RSFO Green River Resource Management Plan Record of Decision (1997) as well as the Record of Decision and Approved Resource Management Plan Amendments for the Rocky Mountain Region, Including the Greater Sage-Grouse Sub-Region of Wyoming (2015).

Before including your address, phone number, email address, or other personal identifying information in your comment, you should be aware that your entire comment—including your personal identifying information—may be made publicly available at any time. While you can ask us in your comment to withhold your personal identifying information from public review, we cannot guarantee that we will be able to do so.

Authority: 40 CFR 1506.6 and 40 CFR 1506.10

Mary Jo Rugwell,
BLM Wyoming State Director.

[FR Doc. 2017-14130 Filed 7-6-17; 8:45 am]

BILLING CODE 4310-22-P